DEPARTMENT OF COMMERCE

Bureau of Industry and Security

Acting Affecting Export Privileges; Fernando Sero, a/k/a Ferdie Resada; Order Denying Export Privileges

A. Denial of Export Privileges of Fernando Sero, a/k/a Ferdie Resada

On December 15, 2005, in the U.S. District Court for the Southern District of New York, following a plea of guilty, Fernando Sero, a/k/a Ferdie Resada (“Sero”) was convicted of violating Section 38 of the Arms Export Control Act (22 U.S.C. §§ 2778 (2000)) (“AECA”). Sero pled guilty to knowingly and willfully causing to be exported from the United States to a location on the Island of Mindanao, in the Southern Philippines, U.S. defense articles to wit, weapons parts, which were designated as defense articles on the United States Munitions List, without having first obtained a valid license from the Department of State for such export, or written authorization for such an export. Sero was sentenced to 40 months imprisonment followed by three years of supervised release.

Section 11(h) of the Export Administration Act of 1979, as amended (currently codified at 50 U.S.C. app. §§ 2401-2420 (2000)) (“Act”) ¹ and Section 766.25 of the Export Administration Regulations² (“Regulations”) provide, in pertinent part, that “[t]he Director of Exporter Services, in consultation with the Director of the Office of Export Enforcement, may deny the export privileges of any person who has been convicted of a violation of * * * Section 38 of the Arms Export Control Act (22 U.S.C. 2778),” for a period not to exceed 10 years from the date of conviction. 15 CFR §§ 766.25(a) and (d). In addition, Section 750.8 of the Regulations states that BIS's Office of Exporter Services may revoke any BIS licenses previously issued in which the person had an interest in at the time of his conviction.

¹ Since August 21, 2001, the Act has been in lapse and the President, through Executive Order 13222 of August 17, 2001 (3 CFR, 2001 Comp. 783 (2002)), as extended by the Notice of August 3, 2006 (71 FR 44551, Aug. 7, 2006), has continued the Regulations in effect under the International Emergency Economic Powers Act (50 U.S.C. §§ 1701-1706 (2000)) (“IEEPA”).

² The Regulations are currently codified at 15 CFR Parts 730-774 (2006).

I have received notice of Sero's conviction for violating the AECA, and have provided notice and an opportunity for Sero to make a written submission to the Bureau of Industry and Security as provided in Section 766.25 of the Regulations. I have also received a written submission from Sero explaining why he does not believe a 10 year denial is appropriate and have decided, following consideration of his submission and consultations with the Export Enforcement, including the Director, Office of Export Enforcement, to deny Sero's conviction.

Accordingly, it is hereby ordered:

I. Until December 15, 2015, Fernando Sero, a/k/a Ferdie Resada, Inmate No. 84301-054, FCI Loretto, Federal Correction Institute, P.O. Box 1000, Loretto, PA 15940, and with an address at: 37 Rugby Road, Yonkers, NY 10710, and when acting for or on behalf of Sero, his representatives, assigns, agents, or employees, (collectively referred to hereinafter as the “Denied Person”) may not, directly or indirectly, participate in any way in any transaction involving any commodity, software or technology (hereinafter collectively referred to as “item”) exported or to be exported from the United States that is subject to the Regulations, or in any other activity subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefitting in any way from any transaction involving any item exported or to be exported from the United States that is subject to the Regulations, or in any other activity subject to the Regulations.

II. No person may, directly or indirectly, do any of the following:

A. Export or reexport to or on behalf of the Denied Person any item subject to the Regulations;

B. Take any action that facilitates the acquisition or attempted acquisition by the Denied Person of the ownership, possession, or control of any item subject to the Regulations that has been or will be exported from the United States, including financing or other support activities related to a transaction whereby the Denied Person acquires or attempts to acquire such ownership, possession or control;

C. Take any action to acquire from or to facilitate the acquisition or attempted acquisition from the Denied Person of any item subject to the Regulations that has been exported from the United States;

D. Obtain from the Denied Person in the United States any item subject to the Regulations with knowledge or reason to know that the item will be, or is intended to be, exported from the United States; or

E. Engage in any transaction to service any item subject to the Regulations that has been or will be exported from the United States and which is owned, possessed or controlled by the Denied Person, or service any item, of whatever origin, that is owned, possessed or controlled by the Denied Person if such service involves the use of any item subject to the Regulations that has been or will be exported from the United States. For purposes of this paragraph, servicing means installation, maintenance, repair, modification or testing.

III. After notice and opportunity for comment as provided in section 766.23 of the Regulations, any other person, firm, corporation, or business organization related to Fernando Sero by affiliation, ownership, control, or position of responsibility in the conduct of trade or related services may also be made subject to the provisions of this Order.

IV. This Order does not prohibit any export, reexport, or other transaction subject to the Regulations where the only items involved that are subject to the Regulations are the foreign-produced direct product of U.S.-origin technology.

V. This Order is effective immediately and shall remain in effect until December 15, 2015.

VI. In accordance with Part 756 of the Regulations, Sero may file an appeal of this Order with the Under Secretary of Commerce for Industry and Security. The appeal must be filed within 45 days from the date of this Order and must comply with the provisions of Part 756 of the Regulations.

VII. A copy of this Order shall be delivered to Sero. This Order shall be published in the Federal Register.

Dated: January 22, 2007.
Eileen M. Albanese,
Director, Office of Exporter Services.

[FR Doc. 07-390 Filed 1-29-07; 8:45 am]

BILLING CODE 3510-DT-M